DEPARTMENT OF THE INTERIOR

Fish and Wildlife Service

[FWS-R1-R-2009-N00006; 1265-0000-10137-S3]

Hakalau Forest National Wildlife Refuge, Hawai’i, HI

AGENCY: Fish and Wildlife Service, Interior.

ACTION: Notice of intent to prepare a comprehensive conservation plan and environmental assessment; announcement of public open house meetings; and request for comments.

SUMMARY: We, the U.S. Fish and Wildlife Service (Service, we) intend to prepare a comprehensive conservation plan (CCP) for the Hakalau Forest National Wildlife Refuge (Refuge), including the Hakalau Forest and the Kona Forest Units. We will also prepare an environmental assessment (EA) to evaluate the effects of various CCP alternatives. This notice also announces public open house meetings; see SUPPLEMENTARY INFORMATION for the details. We furnish this notice in compliance with our CCP policy to advise other agencies and the public of our intentions, and to obtain comments and information on the scope of issues to be considered in the planning process.

DATES: Please provide written comments by March 27, 2009. We will hold public open house meetings on March 3 and 4, 2009, to begin the CCP planning process; see SUPPLEMENTARY INFORMATION for dates, times, and locations.

ADDRESSES: Address comments, questions, and requests for further information to Jim Kraus, Refuge Manager, Hakalau Forest National Wildlife Refuge, 60 Nowelo Street, Suite 100; Hilo, HI 96720. Comments may be faxed to the Refuge at (808) 443-2304, or e-mailed to FW1PlanningComments@fws.gov. Include “Hakalau Forest Refuge CCP” in the subject line of the message. Additional information concerning the Refuge is available on the Internet at http://www.fws.gov/hakalauforest/.

FOR FURTHER INFORMATION CONTACT: Jim Kraus, Refuge Manager, (808) 443-2300.

SUPPLEMENTARY INFORMATION: With this notice, we initiate the CCP process for the Hakalau Forest Refuge.

Background

The National Wildlife Refuge System Administration Act of 1966 (Refuge Administration Act), as amended by the National Wildlife Refuge System Improvement Act of 1997 (16 U.S.C. 668dd-668ee), requires us to develop a CCP for each national wildlife refuge. The purpose of developing a CCP is to provide a refuge manager a 15-year strategy for achieving refuge purposes and contributing toward the mission of the National Wildlife Refuge System (NWRS), consistent with sound principles of fish and wildlife management, conservation, legal mandates, and Service policies. In addition to outlining management direction for conserving wildlife and their habitats, CCPs identify wildlife-dependent recreation opportunities, including opportunities for wildlife observation, wildlife photography, and environmental education and interpretation.

The Service will prepare an EA to evaluate the environmental effects of CCP alternatives, in accordance with the National Environmental Policy Act of 1969 (NEPA), as amended (42 U.S.C. 4321 et seq.); NEPA Regulations (40 CFR parts 1500-1508); other appropriate Federal laws and regulations; and our policies and procedures for compliance with those laws and regulations.

Each unit of the NWRS is established for specific purposes. We use these purposes to develop and prioritize management goals and objectives within the NWRS mission, and to guide refuge public uses. The planning process provides opportunities for the public to participate in evaluating our management goals and objectives for conserving important wildlife and its habitat, while providing wildlife-dependent recreation opportunities that are compatible with a refuge's establishing purpose(s) and the mission of the NWRS.

Public Involvement

We will conduct a planning process that will provide opportunities for the public; State and local governments; agencies; Native Hawaiian organizations; and other interest groups to participate. We request input for issues, concerns, ideas, and suggestions for the future management of the Refuge. We will also give the public an opportunity to provide input at open houses to scope issues and concerns. All information provided voluntarily by mail, phone, or at public meetings becomes part of our official public record. We will handle requests for comments received in accordance with the Freedom of Information Act, NEPA, and Service and Departmental policies and procedures.

Refuge Overview

Both the Hakalau Forest and Kona Forest Units are part of the Hakalau Forest Refuge. The Hakalau Forest Unit was established in 1985 to protect and manage endangered forest birds and their rain forest habitat. Located on the west slope of Mauna Kea Mountain on Island of Hawai'i, the 32,733-acre refuge unit supports a diversity of native birds and plants. The Kona Forest Unit was established in 1997 to protect native forest birds and the endangered Hawaiian crow (alala). Located on the west slope of Mauna Loa, the 5,300-acre refuge unit supports diverse native bird and plant species as well as the rare habitats found in lava tubes and lava tube skylights.

Preliminary Issues, Concerns, and Opportunities

We have identified preliminary issues, concerns, and opportunities that we may address in the CCP. During public scoping, we may identify additional issues. During the CCP planning process the Service will analyze methods for protecting refuge resources in the long term, while providing opportunities for wildlife-dependent recreation.

The Service will specifically evaluate the Refuge's forest restoration program, which encompasses volunteer efforts, control of avian diseases and invasive species (both plant and animal), endangered plant propagation, and outplanting. We will also consider possible improvements to our public use programs and an evaluation of its impacts to wildlife, and opportunities for native gathering rights.

Public Open House Meetings

We will host two public open house meetings to provide information on the CCP and receive public comments. The first meeting will be held March 3, 2009, from 6:30 p.m. to 8:30 p.m., at the Hakalau Forest Refuge Office at 60 Nowelo Street, Room M02, Hilo, HI 96720. The second meeting will be held March 4, 2009, from 6:30 p.m. to 8:30 p.m., at Yano Hall at 82-6156 Mamalahoa Highway, Captain Cook, HI 96745. Opportunities for additional public input will be announced throughout the planning process.

Public Availability of Comments

Before including your address, phone number, e-mail address, or other personal identifying information in your comment, you should be aware that your entire comment—including your personal identifying information—may be made publicly available at any time. While you can ask us in your comment to withhold your personal identifying information from public review, we cannot guarantee that we will be able to do so. We will make all comments part of the official public record. We will handle requests for such comments in accordance with the Freedom of Information Act, NEPA, and Service and Departmental policies and procedures.

Dated: February 20, 2009.
Robyn Thorson,
Regional Director, Region 1, Portland, Oregon.

[FR Doc. E9-4093 Filed 2-24-09; 8:45 am]

BILLING CODE 4310-55-P